DEPARTMENT OF COMMERCE

National Oceanic and Atmospheric Administration

50 CFR Part 622

[Docket No. 120718255-3038-01]

RIN 0648-BC38

Amendment 4 to the Corals and Reef Associated Plants and Invertebrates Fishery Management Plan of Puerto Rico and the U.S. Virgin Islands; Seagrass Management

AGENCY: National Marine Fisheries Service (NMFS), National Oceanic and Atmospheric Administration (NOAA), Commerce.

ACTION: Proposed rule; request for comments.

SUMMARY: NMFS proposes regulations to implement Amendment 4 to the Fishery Management Plan (FMP) for Corals and Reef Associated Plants and Invertebrates of Puerto Rico and the U.S. Virgin Islands (USVI) (Coral FMP), as prepared and submitted by the Caribbean Fishery Management Council (Council). If implemented, this rule would remove seagrasses from the Coral FMP. The intent of this rule and Amendment 4 to the Coral FMP is to address the future management of seagrasses in the U.S. Caribbean exclusive economic zone (EEZ) in accordance with the Magnuson-Stevens Fishery Conservation and Management Act (Magnuson-Stevens Act).

DATES: Written comments must be received on or before April 5, 2013.

ADDRESSES: You may submit comments on this document, identified by “NOAA-NMFS-2013-0021,” by any of the following methods:

• Electronic Submission: Submit all electronic public comments via the Federal e-Rulemaking Portal. Go to www.regulations.gov/#!docketDetail;D=NOAA-NMFS-2013-0021, click the “Comment Now!” icon, complete the required fields, and enter or attach your comments.

• Mail: Submit written comments to Maria del Mar Lopez, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of Amendments 4 to the Coral FMP, which include an Environmental Assessment, a regulatory flexibility analysis, a regulatory impact review, and a fishery impact statement, may be obtained from the Southeast Regional Office Web site at: http://sero.nmfs.noaa.gov/index.html.

FOR FURTHER INFORMATION CONTACT: Maria del Mar Lopez, Southeast Regional Office, NMFS, telephone: 727-824-5305, email: Maria.Lopez@noaa.gov.

SUPPLEMENTARY INFORMATION: Seagrasses in the U.S. Caribbean EEZ are managed under the Coral FMP. The Coral FMP was prepared by the Council and is implemented under the authority of the Magnuson-Stevens Act by regulations at 50 CFR part 622.

Background

The Magnuson-Stevens Act requires that annual catch limits (ACLs) and accountability measures (AMs) be established to end overfishing and prevent overfishing from occurring. Annual catch limits are levels of annual catch of a stock or stock complex that are set to prevent overfishing from occurring. Accountability measures are management controls to prevent ACLs from being exceeded, and to correct or mitigate overages of the ACL if they occur.

To address the requirements of the Magnuson-Stevens Act, NMFS published a final rule to implement the 2011 Caribbean ACL Amendment on December 30, 2011 (76 FR 82414). The 2011 Caribbean ACL Amendment included Amendment 3 to the Coral FMP. However, ACLs and AMs for seagrasses, which are included in the Coral FMP, were not established at that time. In Amendment 4 to the Coral FMP, the Council considered whether to set an ACL for seagrasses, designate seagrasses as ecosystem component species, or remove seagrasses from the Coral FMP. Because there is no direct or indirect harvest of any of the seagrass species listed in the Coral FMP, and future harvest is not anticipated, the Council decided to remove all seagrass species from the Coral FMP.

Management Measure Contained in This Proposed Rule

If implemented, this rule would remove seagrass species from the Coral FMP, because the Council determined that Federal management of these seagrass species is unnecessary.

The Coral FMP currently includes four individual species of seagrasses: Turtle grass (Thalassia testudinum), manatee grass (Syringodium filiforme), shoal grass (Halodule wrightii), widgeon grass (Ruppia maritima), and one group of species, the sea vines (Halophila spp., including H. decipiens, H. baillonis, H. engelmannii, and H. stipulacea (exotic)), all of which occur in U.S. Caribbean waters. Seagrasses were included in 1994 as members of the coral reef resources fishery management unit (FMU) of the Coral FMP. The Coral FMP defined the coral reef resources FMU to include a vast array of plants and invertebrates that provide habitats that are essential to the growth, development, and survival of managed finfish and other marine organisms.

The location, presence, and distribution of seagrasses in the EEZ are not well known, but the best available scientific information indicates that the vast majority of seagrasses occur in shallower Puerto Rico commonwealth and USVI territorial waters (state waters) due to depth-associated light limitations found in the EEZ. Seagrasses are not targeted either in the EEZ or in state waters, and future harvest is not anticipated. Both Puerto Rico and the USVI regulate activities involving seagrasses through their respective coastal zone management programs. Seagrasses have been identified as essential fish habitat (EFH) for stocks within the four Council FMPs (Queen Conch Resources of Puerto Rico and the USVI, Reef Fish Fishery of Puerto Rico and the USVI, Spiny Lobster Fishery of Puerto Rico and the USVI, and Coral). Essential fish habitat is defined by the Magnuson-Stevens Act as those waters and substrates necessary to fish for spawning, breeding, feeding or for growth to maturity. Additionally, seagrasses have been identified as habitat areas of particular concern (HAPC) within special areas in state waters.

The Magnuson-Stevens Act's National Standard 7 guidelines require Councils to prepare FMPs only for overfished fisheries and other fisheries where regulation would serve some useful purpose, and where the present or future benefit of regulation would justify the costs. Because there is no known harvest of seagrass species, these species occur predominantly in state waters, and seagrasses are designated as EFH and HAPC in all of the Council FMPs, the Council determined that Federal management of seagrasses is unnecessary.

Other Changes Contained in This Proposed Rule

This rule would also remove an outdated reference that aquarium trade species are for data collection purposes only, and correct boundary line descriptions for the Caribbean island management areas implemented in the 2010 Caribbean ACL Amendment.

In 50 CFR part 622, Appendix A, NMFS proposes to remove the text regarding aquarium trade species as being in the “data collection” category in the Coral FMP and the Reef Fish FMP (Table 1 and Table 2). The 2011 Caribbean ACL Amendment removed aquarium trade species from the data collection category and set management reference points and an ACL.

This rule also proposes to correct two waypoint descriptions and three boundary line descriptions in Appendix E to part 622 that were implemented in the final rule for Amendment 2 to the Queen Conch FMP and Amendment 5 to the Reef Fish FMP (2010 Caribbean ACL Amendment)(76 FR 82404, December 30, 2011). NMFS has determined that the description of waypoints B and C in the Puerto Rico Management Area (in Table 1) and waypoints B and C in the St. Thomas/St. John Management Area (in Table 3), as well as the boundary line that connects these two waypoints, were incorrectly described in that final rule. NMFS proposes to remove the description for points B and C in Appendix E, and maintain just the waypoints because the waypoints themselves are sufficient description of the boundary in those instances. NMFS also proposes to revise the description of the boundary line that connects waypoints B and C in Appendix E to be “the 3-nautical mile Territorial boundary of the St. Thomas/St. John island group” instead of “the EEZ/Territorial boundary,” to be consistent with the Council's intent for the specification of these Caribbean island management areas. Additionally, NMFS has determined that two boundary lines, one in the St. Croix Management Area (in Table 2) and one in the St. Thomas/St. John Management Area (in Table 3), were incorrectly described as the “EEZ/Territorial boundary” and are proposed to be revised to “International/EEZ boundary.” These revisions would also be consistent with the Council's intent for the specification of these Caribbean island management areas.

Classification

Pursuant to section 304(b)(1)(A) of the Magnuson-Stevens Act, the AA has determined that this proposed rule is consistent with the amendment, the Magnuson-Stevens Act and other applicable law, subject to further consideration after public comment.

This proposed rule has been determined to be not significant for purposes of Executive Order 12866.

The Chief Counsel for Regulation of the Department of Commerce certified to the Chief Counsel for Advocacy of the Small Business Administration that this proposed rule, if implemented, would not have a significant economic impact on a substantial number of small entities. The factual basis for this determination is as follows:

The purpose of this proposed rule is to address management of seagrasses in the EEZ. This proposed rule would remove seagrasses from the Coral FMP because there is no direct or indirect harvest of these species in the EEZ and no harvest is expected in the future. The Magnuson-Stevens Act provides the statutory basis for the proposed action.

No duplicative, overlapping, or conflicting Federal rules have been identified.

No small entities have been identified that would be expected to be affected by this proposed action. As previously stated, this proposed rule would remove all seagrass species from the Coral FMP. No harvest of these species by any entities has been documented. As a result, this proposed rule would not be expected to directly apply to any small entities.

This proposed rule would not establish any new reporting, record-keeping, or other compliance requirements.

The proposed removal of all seagrass species from the FMP would eliminate Federal management of these species. Other than the HAPC and EFH designations discussed in the preamble, no regulations have been implemented to protect seagrasses or otherwise manage seagrass harvest or the resource since the development of the Coral FMP. However, no harvest of seagrasses from either the Caribbean EEZ or state waters has been documented. As a result, no entities, either large or small, are expected to incur any direct change in revenue or profit if this rule is implemented.

In addition to the one action considered in Amendment 4 to the Coral FMP and included in this proposed rule, this proposed rule would make two changes to the regulatory text in 50 CFR part 622. These proposed changes are described in the preamble. These changes clarify language associated with prior regulatory action. As a result, none of these proposed changes in the regulatory text would be expected to result in any reduction in profits to any small entities.

Based on the discussion above, NMFS determines that this rule, if implemented, would not be expected to have any direct adverse economic impact on any small entities. As a result, an initial regulatory flexibility analysis is not required and none has been prepared.

List of Subjects in 50 CFR Part 622

Fisheries, Fishing, Puerto Rico, Reporting and recordkeeping requirements, Virgin Islands.

Dated: February 27, 2013.
Alan D. Risenhoover,
Director, Office of Sustainable Fisheries, performing the functions and duties of the Deputy Assistant Administrator for Regulatory Programs, National Marine Fisheries Service.

For the reasons set out in the preamble, 50 CFR part 622 is proposed to be amended as follows:

PART 622—FISHERIES OF THE CARIBBEAN, GULF, AND SOUTH ATLANTIC

1. The authority citation for part 622 continues to read as follows:

Authority: 16 U.S.C. 1801 et seq.

2. In Appendix A to part 622, Tables 1 and 2 are revised to read as follows:

Appendix A to Part 622—Species Tables

Table 1 of Appendix A to Part 622—Caribbean Coral Reef Resources

I. Coelenterates—Phylum Coelenterata

A. Hydrocorals—Class Hydrozoa

1. Hydroids—Order Athecatae

Family Milleporidae

Millepora spp., Fire corals

Family Stylasteridae

Stylaster roseus, Rose lace corals

B. Anthozoans—Class Anthozoa

1. Soft corals—Order Alcyonacea

Family Anthothelidae

Erythropodium caribaeorum, Encrusting gorgonian

Iciligorgia schrammi, Deepwater sea fan Family Briaridae

Briareum asbestinum, Corky sea finger Family Clavulariidae

Carijoa riisei

Telesto spp.

2. Gorgonian corals—Order Gorgonacea

Family Ellisellidae

Ellisella spp., Sea whips Family Gorgoniidae

Gorgonia flabellum, Venus sea fan

G. mariae, Wide-mesh sea fan

G. ventalina, Common sea fan

Pseudopterogorgia acerosa, Sea plume

P. albatrossae

P. americana, Slimy sea plume

P. bipinnata, Bipinnate plume

P. rigida

Pterogorgia anceps, Angular sea whip

P. citrina, Yellow sea whip

Family Plexauridae

Eunicea calyculata, Warty sea rod

E. clavigera

E. fusca, Doughnut sea rod

E. knighti

E. laciniata

E. laxispica

E. mammosa, Swollen-knob

E. succinea, Shelf-knob sea rod

E. touneforti

Muricea atlantica

M. elongata, Orange spiny rod

M. laxa, Delicate spiny rod

M. muricata, Spiny sea fan

M. pinnata, Long spine sea fan

Muriceopsis spp.

M. flavida, Rough sea plume

M. sulphurea

Plexaura flexuosa, Bent sea rod

P. homomalla, Black sea rod

Plexaurella dichotoma, Slit-pore sea rod

P. fusifera

P. grandiflora

P. grisea

P. nutans, Giant slit-pore

Pseudoplexaura crucis

P. flagellosa

P. porosa, Porous sea rod

P. wagenaari

3. Hard Corals—Order Scleractinia

Family Acroporidae

Acropora cervicornis, Staghorn coral

A. palmata, Elkhorn coral

A. prolifera, Fused staghorn

Family Agaricidae

Agaricia agaricities, Lettuce leaf coral

A. fragilis, Fragile saucer

A. lamarcki, Lamarck's sheet

A. tenuifolia, Thin leaf lettuce

Leptoseris cucullata, Sunray lettuce

Family Astrocoeniidae

Stephanocoenia michelinii, Blushing star

Family Caryophyllidae

Eusmilia fastigiata, Flower coral

Tubastrea aurea, Cup coral

Family Faviidae

Cladocora arbuscula, Tube coral

Colpophyllia natans, Boulder coral

Diploria clivosa, Knobby brain coral

D. labyrinthiformis, Grooved brain

D. strigosa, Symmetrical brain

Favia fragum, Golfball coral

Manicina areolata, Rose coral

M. mayori, Tortugas rose coral

Montastrea annularis, Boulder star coral

M. cavernosa, Great star coral

Solenastrea bournoni, Smooth star coral

Family Meandrinidae

Dendrogyra cylindrus, Pillar coral

Dichocoenia stellaris, Pancake star

D. stokesi, Elliptical star

Meandrina meandrites, Maze coral

Family Mussidae

Isophyllastrea rigida, Rough star coral

Isophyllia sinuosa, Sinuous cactus

Mussa angulosa, Large flower coral

Mycetophyllia aliciae, Thin fungus coral

M. danae, Fat fungus coral

M. ferox, Grooved fungus

M. lamarckiana, Fungus coral

Scolymia cubensis, Artichoke coral

S. lacera, Solitary disk

Family Oculinidae

Oculina diffusa, Ivory bush coral

Family Pocilloporidae

Madracis decactis, Ten-ray star coral

M. mirabilis, Yellow pencil

Family Poritidae

Porites astreoides, Mustard hill coral

P. branneri, Blue crust coral

P. divaricata, Small finger coral

P. porites, Finger coral

Family Rhizangiidae

Astrangia solitaria, Dwarf cup coral

Phyllangia americana, Hidden cup coral

Family Siderastreidae

Siderastrea radians, Lesser starlet

S. siderea, Massive starlet

4. Black Corals—Order Antipatharia

Antipathes spp., Bushy black coral

Stichopathes spp., Wire coral

II. [Reserved]

Aquarium Trade Species in the Caribbean Coral FMP

I. Sponges—Phylum Porifera

A. Demosponges—Class Demospongiae

Aphimedon compressa, Erect rope sponge

Chondrilla nucula, Chicken liver sponge

Cynachirella alloclada

Geodia neptuni, Potato sponge

Haliclona spp., Finger sponge

Myriastra spp.

Niphates digitalis, Pink vase sponge

N. erecta, Lavender rope sponge

Spinosella policifera

S. vaginalis

Tethya crypta

II. Coelenterates—Phylum Coelenterata

A. Anthozoans—Class Anthozoa

1. Anemones—Order Actiniaria

Aiptasia tagetes, Pale anemone

Bartholomea annulata, Corkscrew anemone

Condylactis gigantea, Giant pink-tipped anemone

Hereractis lucida, Knobby anemone

Lebrunia spp., Staghorn anemone

Stichodactyla helianthus, Sun anemone

2. Colonial Anemones—Order Zoanthidea

Zoanthus spp., Sea mat

3. False Corals—Order Corallimorpharia

Discosoma spp. (formerly Rhodactis), False coral

Ricordia florida, Florida false coral

III. Annelid Worms—Phylum Annelida

A. Polychaetes—Class Polychaeta

Family Sabellidae, Feather duster worms

Sabellastarte spp., Tube worms

S. magnifica, Magnificent duster

Family Serpulidae

Spirobranchus giganteus, Christmas tree worm

IV. Mollusks—Phylum Mollusca

A. Gastropods—Class Gastropoda

Family Elysiidae

Tridachia crispata, Lettuce sea slug

Family Olividae

Oliva reticularis, Netted olive

Family Ovulidae

Cyphoma gibbosum, Flamingo tongue

B. Bivalves—Class Bivalvia

Family Limidae

Lima spp., Fileclams

L. scabra, Rough fileclam

Family Spondylidae

Spondylus americanus, Atlantic thorny oyster

C. Cephalopods—Class Cephalopoda

1. Octopuses—Order Octopoda

Family Octopodidae

Octopus spp. (except the Common octopus, O. vulgaris)

V. Arthropods—Phylum Arthropoda

A. Crustaceans—Subphylum Crustacea

1. Decapods—Order Decapoda

Family Alpheidae

Alpheaus armatus, Snapping shrimp

Family Diogenidae

Paguristes spp., Hermit crabs

P. cadenati, Red reef hermit

Family Grapsidae

Percnon gibbesi, Nimble spray crab

Family Hippolytidae

Lysmata spp., Peppermint shrimp

Thor amboinensis, Anemone shrimp

Family Majidae, Coral crabs

Mithrax spp., Clinging crabs

M. cinctimanus, Banded clinging

M. sculptus, Green clinging

Stenorhynchus seticornis, Yellowline arrow

Family Palaemonida

Periclimenes spp., Cleaner shrimp

Family Squillidae, Mantis crabs

Gonodactylus spp.

Lysiosquilla spp.

Family Stenopodidae, Coral shrimp

Stenopus hispidus, Banded shrimp

S. scutellatus, Golden shrimp

VI. Echinoderms—Phylum Echinodermata

A. Feather stars—Class Crinoidea

Analcidometra armata, Swimming crinoid

Davidaster spp., Crinoids

Nemaster spp., Crinoids

B. Sea stars—Class Asteroidea

Astropecten spp., Sand stars

Linckia guildingii, Common comet star

Ophidiaster guildingii, Comet star

Oreaster reticulatus, Cushion sea star

C. Brittle and basket stars—Class Ophiuroidea

Astrophyton muricatum, Giant basket star

Ophiocoma spp., Brittlestars

Ophioderma spp., Brittlestars

O. rubicundum, Ruby brittlestar

D. Sea Urchins—Class Echinoidea

Diadema antillarum, Long-spined urchin

Echinometra spp., Purple urchin

Eucidaris tribuloides, Pencil urchin

Lytechinus spp., Pin cushion urchin

Tripneustes ventricosus, Sea egg

E. Sea Cucumbers—Class Holothuroidea

Holothuria spp., Sea cucumbers

VII. Chordates—Phylum Chordata

A. Tunicates—Subphylum Urochordata

Table 2 of Appendix A to Part 622—Caribbean Reef Fish

Lutjanidae—Snappers

Unit 1

Black snapper, Apsilus dentatus

Blackfin snapper, Lutjanus buccanella

Silk snapper, Lutjanus vivanus

Vermilion snapper, Rhomboplites aurorubens

Wenchman, Pristipomoides aquilonaris

Unit 2

Cardinal, Pristipomoides macrophthalmus

Queen snapper, Etelis oculatus

Unit 3

Gray snapper, Lutjanus griseus

Lane snapper, Lutjanus synagris

Mutton snapper, Lutjanus analis

Dog snapper, Lutjanus jocu

Schoolmaster, Lutjanus apodus

Mahogany snapper, Lutjanus mahogani

Unit 4

Yellowtail snapper, Ocyurus chrysurus

Serranidae—Sea basses and Groupers

Unit 1

Nassau Grouper, Epinephelus striatus

Unit 2

Goliath grouper, Epinephelus itajara

Unit 3

Coney, Epinephelus fulvus

Graysby, Epinephelus cruentatus

Red hind, Epinephelus guttatus

Rock hind, Epinephelus adscensionis

Unit 4

Black grouper, Mycteroperca bonaci

Red grouper, Epinephelus morio

Tiger grouper, Mycteroperca tigris

Yellowfin grouper, Mycteroperca venenosa

Unit 5

Misty grouper, Epinephelus mystacinus

Yellowedge grouper, Epinephelus flavolimbatus

Haemulidae—Grunts

White grunt, Haemulon plumieri

Margate, Haemulon album

Tomtate, Haemulon aurolineatum

Bluestriped grunt, Haemulon sciurus

French grunt, Haemulon flavolineatum

Porkfish, Anisotremus virginicus

Mullidae—Goatfishes

Spotted goatfish, Pseudupeneus maculatus

Yellow goatfish, Mulloidichthys martinicus

Sparidae—Porgies

Jolthead porgy, Calamus bajonado

Sea bream, Archosargus rhomboidalis

Sheepshead porgy, Calamus penna

Pluma, Calamus pennatula

Holocentridae—Squirrelfishes

Blackbar soldierfish, Myripristis jacobus

Bigeye, Priacanthus arenatus

Longspine squirrelfish, Holocentrus rufus

Squirrelfish, Holocentrus adscensionis

Malacanthidae—Tilefishes

Blackline tilefish, Caulolatilus cyanops

Sand tilefish, Malacanthus plumieri

Carangidae—Jacks

Blue runner, Caranx crysos

Horse-eye jack, Caranx latus

Black jack, Caranx lugubris

Almaco jack, Seriola rivoliana

Bar jack, Caranx ruber

Greater amberjack, Seriola dumerili

Yellow jack, Caranx bartholomaei

Scaridae—Parrotfishes

Blue parrotfish, Scarus coeruleus

Midnight parrotfish, Scarus coelestinus

Princess parrotfish, Scarus taeniopterus

Queen parrotfish, Scarus vetula

Rainbow parrotfish, Scarus guacamaia

Redfin parrotfish, Sparisoma rubripinne

Redtail parrotfish, Sparisoma chrysopterum

Stoplight parrotfish, Sparisoma viride

Redband parrotfish, Sparisoma aurofrenatum

Striped parrotfish, Scarus croicensis

Acanthuridae—Surgeonfishes

Blue tang, Acanthurus coeruleus

Ocean surgeonfish, Acanthurus bahianus

Doctorfish, Acanthurus chirurgus

Balistidae—Triggerfishes

Ocean triggerfish, Canthidermis sufflamen

Queen triggerfish, Balistes vetula

Sargassum triggerfish, Xanthichthys rigens

Monacanthidae—Filefishes

Scrawled filefish, Aluterus scriptus

Whitespotted filefish, Cantherhines macrocerus

Black durgon, Melichthys niger

Ostraciidae—Boxfishes

Honeycomb cowfish, Lactophrys polygonia

Scrawled cowfish, Lactophrys quadricornis

Trunkfish, Lactophrys trigonus

Spotted trunkfish, Lactophrys bicaudalis

Smooth trunkfish, Lactophrys triqueter

Labridae—Wrasses

Hogfish, Lachnolaimus maximus

Puddingwife, Halichoeres radiatus

Spanish hogfish, Bodianus rufus

Pomacanthidae—Angelfishes

Queen angelfish, Holacanthus ciliaris

Gray angelfish, Pomacanthus arcuatus

French angelfish, Pomacanthus paru

Aquarium Trade Species in the Caribbean Reef Fish FMP:

Frogfish, Antennarius spp.

Flamefish, Apogon maculatus

Conchfish, Astrapogen stellatus

Redlip blenny, Ophioblennius atlanticus

Peacock flounder, Bothus lunatus

Longsnout butterflyfish, Chaetodon aculeatus

Foureye butterflyfish, Chaetodon capistratus

Spotfin butterflyfish, Chaetodon ocellatus

Banded butterflyfish, Chaetodon striatus

Redspotted hawkfish, Amblycirrhitus pinos

Flying gurnard, Dactylopterus volitans

Atlantic spadefish, Chaetodipterus faber

Neon goby, Gobiosoma oceanops

Rusty goby, Priolepis hipoliti

Royal gramma, Gramma loreto

Creole wrasse, Clepticus parrae

Yellowcheek wrasse, Halichoeres cyanocephalus

Yellowhead wrasse, Halichoeres garnoti

Clown wrasse, Halichoeres maculipinna

Pearly razorfish, Hemipteronotus novacula

Green razorfish, Hemipteronotus splendens

Bluehead wrasse, Thalassoma bifasciatum

Chain moray, Echidna catenata

Green moray, Gymnothorax funebris

Goldentail moray, Gymnothorax miliaris

Batfish, Ogcocepahalus spp.

Goldspotted eel, Myrichthys ocellatus

Yellowhead jawfish, Opistognathus aurifrons

Dusky jawfish, Opistognathus whitehursti

Cherubfish, Centropyge argi

Rock beauty, Holacanthus tricolor

Sergeant major, Abudefduf saxatilis

Blue chromis, Chromis cyanea

Sunshinefish, Chromis insolata

Yellowtail damselfish, Microspathodon chrysurus

Dusky damselfish, Pomacentrus fuscus

Beaugregory, Pomacentrus leucostictus

Bicolor damselfish, Pomacentrus partitus

Threespot damselfish, Pomacentrus planifrons

Glasseye snapper, Priacanthus cruentatus

High-hat, Equetus acuminatus

Jackknife-fish, Equetus lanceolatus

Spotted drum, Equetus punctatus

Scorpaenidae—Scorpionfishes

Butter hamlet, Hypoplectrus unicolor

Swissguard basslet, Liopropoma rubre

Greater soapfish, Rypticus saponaceus

Orangeback bass, Serranus annularis

Lantern bass, Serranus baldwini

Tobaccofish, Serranus tabacarius

Harlequin bass, Serranus tigrinus

Chalk bass, Serranus tortugarum

Caribbean tonguefish, Symphurus arawak

Seahorses, Hippocampus spp.

Pipefishes, Syngnathus spp.

Sand diver, Synodus intermedius

Sharpnose puffer, Canthigaster rostrata

Porcupinefish, Diodon hystrix

3. In Appendix E to part 622, Tables 1, 2 and 3 are revised to read as follows:

Appendix E to Part 622—Caribbean Island/Island Group Management Areas

Table 1 of Appendix E to Part 622—Coordinates of the Puerto Rico Management Area

The Puerto Rico management area is bounded by rhumb lines connecting, in order, the following points.

Point | North lat. | West long.
A (intersects with the International/EEZ boundary) | 19°37′29″ | 65°20′57″
B | 18°25′46.3015″ | 65°06′31.866″
From Point B, proceed southerly along the 3-nautical mile Territorial boundary of the St. Thomas/St. John island group to Point C
C | 18°13′59.0606″ | 65°05′33.058″
D | 18°01′16.9636″ | 64°57′38.817″
E | 17°30′00.000″ | 65°20′00.1716″
F | 16°02′53.5812″ | 65°20′00.1716″
From Point F, proceed southwesterly, then northerly, then easterly, and finally southerly along the International/EEZ boundary to Point A
A (intersects with the International/EEZ boundary) | 19°37′29″ | 65°20′57″

Table 2 of Appendix E to Part 622—Coordinates of the St. Croix Management Area

The St. Croix management area is bounded by rhumb lines connecting, in order, the following points.

Point | North lat. | West long.
G | 18°03′03″ | 64°38′03″
From Point G, proceed easterly, then southerly, then southwesterly along the International/EEZ boundary to Point F
F | 16°02′53.5812″ | 65°20′00.1716″
E | 17°30′00.000″ | 65°20′00.1716″
D | 18°01′16.9636″ | 64°57′38.817″
G | 18°03′03″ | 64°38′03″

Table 3 of Appendix E to Part 622—Coordinates of the St. Thomas/St. John Management Area

The St. Thomas/St. John management area is bounded by rhumb lines connecting, in order, the following points.

Point | North lat. | West long.
A (intersects with the International/EEZ boundary) | 19°37′29″ | 65°20′57″
From Point A, proceed southeasterly along the International/EEZ boundary to Point G
G | 18°03′03″ | 64°38′03″
D | 18°01′16.9636″ | 64°57′38.817″
C | 18°13′59.0606″ | 65°05′33.058″
From Point C, proceed northerly along the 3-nautical mile Territorial boundary of the St. Thomas/St. John island group to Point B
B | 18°25′46.3015″ | 65°06′31.866″
A (intersects with the International/EEZ boundary) | 19°37′29″ | 65°20′57″

[FR Doc. 2013-05067 Filed 3-5-13; 8:45 am]

BILLING CODE 3510-22-P